ENVIRONMENTAL PROTECTION AGENCY

[FRL-9202-2]

Notice of Prevention of Significant Deterioration Final Determination for Power Holdings of Illinois, LLC

AGENCY: Environmental Protection Agency (EPA).

ACTION: Notice of final action.

SUMMARY: This notice announces that on August 13, 2010, the Environmental Appeals Board (EAB) of the EPA denied a petition for review of a Federal Prevention of Significant Deterioration (PSD) permit issued to Power Holdings of Illinois, LLC, by the Illinois Environmental Protection Agency (IEPA).

DATES: The effective date for the EAB's decision is August 13, 2010. Pursuant to section 307(b)(1) of the Clean Air Act, 42 U.S.C. 7607(b)(1), judicial review of this permit decision, to the extent it is available, may be sought by filing a petition for review in the United States Court of Appeals for the Seventh Circuit within 60 days of September 15, 2010.

ADDRESSES: The documents relevant to the above action are available for public inspection during normal business hours at the following address: U.S. Environmental Protection Agency, Region 5, 77 West Jackson Boulevard (AR-18J), Chicago, Illinois 60604. EPA Region 5's normal business hours are 8:15 a.m. to 4:45 p.m. To arrange viewing of these documents, call Constantine Blathras at (312) 886-0671.

FOR FURTHER INFORMATION CONTACT: Constantine Blathras, Air and Radiation Division, Air Programs Branch, U.S. Environmental Protection Agency, Region 5, 77 West Jackson Boulevard (AR-18J), Chicago, Illinois 60604. Anyone who wishes to review the EAB decision can obtain it at http://www.epa.gov/eab/.

Notification of EAB Final Decision: The IEPA, acting under authority of a PSD delegation agreement, issued a PSD permit to Power Holdings of Illinois, LLC, on October 26, 2009, granting approval to construct a new synthetic natural gas plant in Jefferson County, Illinois. The plant would use gasification technology to gasify Illinois basin coal to create pipeline quality gas that would be sold to natural gas suppliers. The Sierra Club filed a petition for review with the EAB on November 29, 2009. The EAB denied the petition on August 13, 2010.

Dated: September 7, 2010.
Walter W. Kovalick Jr.,
Acting Deputy Regional Administrator, Region 5.

[FR Doc. 2010-22977 Filed 9-14-10; 8:45 am]

BILLING CODE 6560-50-P